DEPARTMENT OF TRANSPORTATION

Federal Railroad Administration

Notice of Amendment for Projects Located Off the Northeast Corridor for the Fiscal Year 2024 Federal-State Partnership for Intercity Passenger Rail Program

AGENCY: Federal Railroad Administration (FRA), Department of Transportation (DOT).

ACTION: Notice of amendment.

SUMMARY: On September 24, 2025, FRA published a reissued Notice of Funding Opportunity (NOFO Notice) in the Federal Register announcing the availability of funding and procedures to obtain grant funding for eligible projects located off the Northeast Corridor for the Fiscal Year (FY) 2024-2025 Federal-State Partnership for Intercity Passenger Rail Program (FSP-National). In the NOFO Notice published on September 24, 2025, the funding opportunity ID for FY 2024-2025 FSP-National was incorrectly listed as FR-FSP-23-004. The full text of the September 24, 2025 NOFO can be found at www.Grants.gov using the funding opportunity ID FR-FSP-25-006.

DATES: Applications for funding under this solicitation are due no later than 11:59 p.m. Eastern Time (ET) January 7, 2026. Applications that are incomplete or received after 11:59 p.m. EST January 7, 2026 will not be considered for funding. FRA reserves the right to modify this deadline. See Section 4 of the reissued NOFO for additional information on the application process.

ADDRESSES: Applicants must submit all application materials, in their entirety, through www.Grants.gov. FRA is committed to ensuring that information is available in appropriate alternative formats to meet the requirements of persons who have a disability. If you require an alternative version of files provided, please contact FRA-NOFO-Support@dot.gov.

FOR FURTHER INFORMATION CONTACT: For further information concerning this notice, grant application submission, and processing questions, please contact FRA-NOFO-Support@dot.gov.

SUPPLEMENTARY INFORMATION: This Notice amends the NOFO Notice published on September 24, 2025 at 90 FR 45976 to replace the funding opportunity ID from FR-FSP-23-004 to the correct funding opportunity ID FR-FSP-25-006.

Robert Andrew Feeley,
Acting Administrator.

[FR Doc. 2025-19498 Filed 10-7-25; 8:45 am]

BILLING CODE 4910-06-P